FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 2, 2009.

A. Federal Reserve Bank of Chicago (Colette A. Fried, Assistant Vice President) 230 South LaSalle Street, Chicago, Illinois 60690-1414:

1. Notice by White Bay Capital LLLP (LLLP), Grand Rapids, Michigan, the Stephen A. Van Andel 2009 WBC Trust (Trust), Grand Rapids, Michigan, as the general partner of LLLP, and Stephen A. Van Andel, Grand Rapids, Michigan, as trustee of Trust, to acquire voting shares of Macatawa Bank Corporation, Holland, Michigan, and thereby indirectly acquire control of Macatawa Bank, Holland, Michigan.

B. Federal Reserve Bank of San Francisco (Tracy Basinger, Director, Regional and Community Bank Group) 101 Market Street, San Francisco, California 94105-1579:

1. Kenneth G. Walker Grantor Trust, to acquire membership interest of Palomar Enterprises, LLC, and thereby together with other related parties, control Palomar Enterprises, LLC which controls Farmers and Merchants Bank, all of Long Beach, California.

Board of Governors of the Federal Reserve System, November 13, 2009.
Robert deV. Frierson,
Deputy Secretary of the Board.

[FR Doc. E9-27694 Filed 11-18-09; 8:45 am]

BILLING CODE 6210-01-S